DEPARTMENT OF THE INTERIOR

Bureau of Indian Affairs

[201A2100DD/AAKC001030/A0A501010.999900 253G]

Advisory Board of Exceptional Children

AGENCY: Bureau of Indian Affairs, Interior.

ACTION: Notice of meeting.

SUMMARY: The Bureau of Indian Education (BIE) is announcing that the Advisory Board for Exceptional Children will hold its next meeting in Albuquerque, NM, November 13-15, 2019. The purpose of the meeting is to meet the mandates of the Individuals with Disabilities Education Act of 2004 (IDEA) for Indian children with disabilities.

DATES: On Wednesday, November 13, 2019 and Thursday, November 14, 2019 and Friday, November 15, 2019 all Advisory Board members will meet in-session from 8:30 a.m. to 4:30 p.m. Mountain Time. The Advisory Board will hold an orientation session for members only on Friday, November 15, 2019 from 8:30 a.m. to 10:00 a.m. Mountain Time. The public commenting session will occur on Friday, November 15, 2019 from 11:00 a.m. to 11:30 a.m. Mountain Time.

ADDRESSES: The orientation and public meetings will be held at the 1011 Indian School Rd. NW, 3rd floor in the Large Conference in Albuquerque, NM 87104; telephone number (602) 240-8597.

FOR FURTHER INFORMATION CONTACT: Jennifer Davis, Designated Federal Officer, Bureau of Indian Education, 2600 N Central Ave., Suite 800, Phoenix, Arizona 85004, email at Jennifer.davis@bie.edu or telephone number (602) 240-8597.

SUPPLEMENTARY INFORMATION: In accordance with the Federal Advisory Committee Act, the BIE is announcing that the Advisory Board will hold its next meeting in Albuquerque, New Mexico. The Advisory Board was established under the Individuals with Disabilities Act of 2004 (20 U.S.C. 1400 et seq.) to advise the Secretary of the Interior, through the Assistant Secretary-Indian Affairs, on the needs of Indian children with disabilities. The meeting is open to the public.

The following items will be on the agenda:

• Report from Tony Dearman, Director, BIE Director's Office

• Report from Dr. Jeffrey Hamley Associate Deputy Director, BIE, Division of Performance and Accountability (DPA)

• Report from Donald Griffin, Supervisory Education Specialist, BIE/DPA/IDEA

• Report from BIE Associate Deputy Directors—discuss topics related to students with disabilities

• Finalize the 2019 Annual Report

• An orientation session will be provided to new Advisory Board members

• Public Comments (via teleconference call, Friday, November 15, 2019 meeting only *)

* During the November 15, 2019 meeting, time has been set aside for public comment via conference call from 11:00 a.m. to 11:30 a.m. Mountain Time. The call-in information is: Telephone Number 1-888-417-0376, Passcode 1509140. Public comments can also be made in-person at the meeting site; or emailed to the DFO at Jennifer.davis@bie.edu; or faxed to (602) 240-8597 Attention: Jennifer Davis, DFO; or mailed or hand delivered to the Bureau of Indian Education, Attention: Jennifer Davis, DFO, 2600 N Central Ave., Suite 800, Phoenix, Arizona 85004.

Authority: 5 U.S.C. Appendix 5; 20 U.S.C. 1400 et seq.

Dated: September 23, 2019.
Tara Sweeney,
Assistant Secretary—Indian Affairs.

[FR Doc. 2019-22451 Filed 10-11-19; 8:45 am]

BILLING CODE 4337-15-P